DEPARTMENT OF TRANSPORTATION

Federal Aviation Administration

14 CFR Part 97

[Docket No. 30556 Amdt. No. 3223]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective June 26, 2007. The compliance date for each SIAP and/or Weather Takeoff Minimums is specified in the amendatory provisions.

The incorporation by reference of certain publications listed in the regulations is approved by the Director of the Federal Register as of June 26, 2007.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to Title 14 of the Code of Federal Regulations, Part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on June 15, 2007.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 2 AUG 2007

Provincetown, MA, Provincetown Muni, Takeoff Minimums and Obstacle DP, Orig

Ridgley, MD, Ridgely Airpark, Takeoff Minimums and Textual DP, Orig

Portsmouth, NH, Portsmouth International at Pease, Takeoff Minimums and Obstacle DP, Orig

Batavia, NY, Genesee County Airport, Takeoff Minimums and Obstacle DP, Orig

Jamestown, NY, Chautauqua County/Jamestown, Takeoff Minimums and Obstacle DP, Amdt 6

Williamson/Sodus, NY, Williamson/Sodus, Takeoff Minimums and Obstacle DP, Orig

Clarion, PA, Clarion County, Takeoff Minimums and Obstacle DP, Orig

Titusville, PA, Titusville, Takeoff Minimums and Obstacle DP, Orig

Wilkes-Barre/Scranton, PA, Wilkes-Barre/Scranton Intl, ILS OR LOC/DME RWY 4, Amdt 35

Wilkes-Barre/Scranton, PA, Wilkes-Barre/Scranton Intl, ILS OR LOC/DME RWY 22, Amdt 5

Wise, VA, Lonesome Pine, GPS RWY 6, Orig, CANCELLED

Wheeling, WV, Wheeling Ohio CO, VOR RWY 21, Amdt 15

Wheeling, WV, Wheeling Ohio CO, ILS OR LOC RWY 3, Amdt 21

Wheeling, WV, Wheeling Ohio CO, RNAV (GPS) RWY 21, Orig

Wheeling, WV, Wheeling Ohio CO, Takeoff Minimums and Obstacle DP, Amdt 3

Effective 30 AUG 2007

Albertville, AL, Albertville Rgnl/Thomas J Brumlik Fld, Takeoff

Minimums and Obstacle DP, Orig

Russellville, AR, Russellville Regional, RNAV (GPS) RWY 7, Orig

Atlanta, GA, Dekalb-Peachtree, RNAV (RNP) Z RWY 20L, Orig

Atlanta, GA, Dekalb-Peachtree, RNAV (RNP) RWY 2R, Orig

Atlanta, GA, Fulton County Airport-Brown Field, RNAV (RNP) Z RWY 8, Orig

Augusta, GA, Augusta Regional at Bush Field, ILS OR LOC RWY 35, Amdt 27

Cartersville, GA, Cartersville, RNAV (GPS) RWY 19, Amdt 1

Sylvania, GA, Plantation Arpk, RNAV (GPS) RWY 5, Orig

Sylvania, GA, Plantation Arpk, RNAV (GPS) RWY 23, Orig

Maquoketa, IA, Maquoketa Muni, NDB RWY 15, Amdt 3, CANCELLED

Chicago/Romeoville, IL, Lewis University, RNAV (GPS) RWY 2, Orig

Chicago/Romeoville, IL, Lewis University, RNAV (GPS) RWY 9, Orig

Chicago/Romeoville, IL, Lewis University, RNAV (GPS) RWY 20, Orig

Chicago/Romeoville, IL, Lewis University, RNAV (GPS) RWY 27, Orig

Chicago/Romeoville, IL, Lewis University, LOC/DME RWY 9, Amdt 1

Chicago/Romeoville, IL, Lewis University, VOR RWY 9, Amdt 3

Chicago/Romeoville, IL, Lewis University, GPS RWY 9, Orig, CANCELLED

Chicago/Romeoville, IL, Lewis University, GPS RWY 27, Amdt 2, CANCELLED

Chicago/Romeoville, IL, Lewis University, Takeoff Minimums and Obstacle DP, Orig

Danville, IL, Vermilion County, RNAV (GPS) RWY 3, Orig

Danville, IL, Vermilion County, RNAV (GPS) RWY 21, Orig

Danville, IL, Vermilion County, RNAV (GPS) RWY 34, Orig

Danville, IL, Vermilion County, VOR/DME RWY 3, Amdt 12

Danville, IL, Vermilion County, VOR RWY 21, Amdt 14

Danville, IL, Vermilion County, VOR/DME RNAV OR GPS RWY 34, Amdt 4A, CANCELLED

Freeport, IL, Albertus, ILS OR LOC RWY 24, Orig

Freeport, IL, Albertus, RNAV (GPS) RWY 6, Orig

Freeport, IL, Albertus, RNAV (GPS) RWY 24, Amdt 1

Freeport, IL, Albertus, LOC RWY 24, Orig-C, CANCELLED

Freeport, IL, Albertus, VOR/DME RNAV OR GPS RWY 6, Amdt 5C, CANCELLED

Huntingburg, IN, Huntingburg, NDB RWY 27, Amdt 3

Albert Lea, MN, Albert Lea Muni, RNAV (GPS) RWY 16, Amdt 1

Roseau, MN, Roseau Muni/Rudy Billberg Field, RNAV (GPS) RWY 16, Orig

Roseau, MN, Roseau Muni/Rudy Billberg Field, RNAV (GPS) RWY 34, Orig

Roseau, MN, Roseau Muni/Rudy Billberg Field, VOR RWY 16, Amdt 8

Roseau, MN, Roseau Muni/Rudy Billberg Field, VOR RWY 34, Amdt 1

Roseau, MN, Roseau Muni/Rudy Billberg Field, Takeoff Minimums and Obstacle DP, Orig

Lee's Summit, MO, Lee's Summit Municipal, NDB RWY 18, Amdt 1A, CANCELLED

Lee's Summit, MO, Lee's Summit Municipal, NDB RWY 36, Orig, CANCELLED

Batesville, MS, Panola County, Takeoff Minimums and Obstacle DP, Orig

Starkville, MS, George M Bryan, RNAV (GPS) RWY 36, Amdt 1

Gastonia, NC, Gastonia Muni, RNAV (GPS) RWY 3, Amdt 1A

Gastonia, NC, Gastonia Muni, RNAV (GPS) RWY 21, Orig-A

Gastonia, NC, Gastonia Muni, VOR/DME OR GPS-A, Amdt 4, CANCELLED

Findlay, OH, Findlay, RNAV (GPS) RWY 18, Amdt 1

Findlay, OH, Findlay, RNAV (GPS) RWY 25, Amdt 1

Findlay, OH, Findlay, RNAV (GPS) RWY 36, Amdt 1

Findlay, OH, Findlay, Takeoff Minimums and Obstacle DP, Orig

Hamilton, OH, Butler Co Rgnl, ILS OR LOC RWY 29, Amdt 1

Hamilton, OH, Butler Co Rgnl, RNAV (GPS) RWY 11, Orig

Hamilton, OH, Butler Co Rgnl, RNAV (GPS) RWY 29, Orig

Hamilton, OH, Butler Co Rgnl, GPS RWY 11, Orig, CANCELLED

Hamilton, OH, Butler Co Rgnl, GPS RWY 29, Amdt 2, CANCELLED

Hamilton, OH, Butler Co Rgnl, NDB-A, Amdt 3, CANCELLED

Marion, OH, Marion Muni, RNAV (GPS) RWY 7, Orig

Marion, OH, Marion Muni, RNAV (GPS) RWY 25, Orig

Marion, OH, Marion Muni, VOR-A, Amdt 1

Marion, OH, Marion Muni, GPS RWY 25, Orig-B, CANCELLED

Marion, OH, Marion Muni, Takeoff Minimums and Obstacle DP, Orig

Fairview, OK, Fairview Muni, NDB RWY 17, Amdt 4, CANCELLED

Salem, OR, McNary Fld, RNAV (GPS) Y RWY 31, Orig-A

Salem, OR, McNary Fld, RNAV (GPS) Z RWY 31, Amdt 1A

Salem, OR, McNary Fld, LOC BC RWY 13, Amdt 6D

Salem, OR, McNary Fld, LOC/DME RWY 31, Amdt 2B

Pierre, SD, Pierre Regional, RNAV (GPS) RWY 7, Amdt 2

Pierre, SD, Pierre Regional, RNAV (GPS) RWY 13, Amdt 2

Pierre, SD, Pierre Regional, RNAV (GPS) RWY 25, Amdt 2

Amarillo, TX, Rick Husband Amarillo Intl, Takeoff Minimums and Obstacle DP,

Amdt 1

Canadian, TX, Hemphill County, Takeoff Minimums and Obstacle DP, Amdt 2

Beaver, UT, Beaver Muni, RNAV (GPS)-A, Orig

Beaver, UT, Beaver Muni, Takeoff Minimums and Obstacle DP, Orig

Ogden, UT, Ogden-Hinckley, ILS OR LOC RWY 3, Amdt 4A

Seattle, WA, Seattle-Tacoma Intl, ILS OR LOC/DME RWY 34R, Orig-E, ILS RWY 34R (CAT II)

Shawno, WI, Shawno Muni, Takeoff Minimums and Obstacle DP, Amdt 2

Effective 25 OCT 2007

Logansport, IN, Logansport/Cass County, NDB RWY 9, Amdt 2A, CANCELLED

[FR Doc. E7-12122 Filed 6-25-07; 8:45 am]

BILLING CODE 4910-13-P